DEPARTMENT OF THE INTERIOR

Bureau of Land Management

[LLWO3200000 L19900000.PO0000; OMB Control Number 1004-0194]

Agency Information Collection Activities; Submission to the Office of Management and Budget for Review and Approval; Surface Management Activities Under the General Mining Law

AGENCY: Bureau of Land Management, Interior.

ACTION: Notice of information collection; request for comments.

SUMMARY: In accordance with the Paperwork Reduction Act of 1995, we, the Bureau of Land Management (BLM), are proposing to renew an information collection.

DATES: Interested persons are invited to submit comments on or before February 27, 2020.

ADDRESSES: Send written comments on this information collection request (ICR) to the Office of Management and Budget's Desk Officer for the Department of the Interior by email at OIRA_submission@omb.eop.gov; or via facsimile to (202) 395-5806. Please provide a copy of your comments to the BLM at U.S. Department of the Interior, Bureau of Land Management, 1849 C Street NW, Room 2134LM, Washington, DC 20240, Attention: Chandra Little, or by email to cclittle@blm.gov. Please reference OMB Control Number 1004-0194 in the subject line of your comments.

FOR FURTHER INFORMATION CONTACT: To request additional information about this ICR, contact Stuart Grange by email at sgrange@blm.gov, or by telephone at 202-912-7067. You may also view the ICR at http://www.reginfo.gov/public/do/PRAMain. Persons who use a telecommunication device for the deaf may call the Federal Relay Service at 1-800-877-8339, to leave a message for Mr. Grange.

SUPPLEMENTARY INFORMATION: In accordance with the Paperwork Reduction Act of 1995, the BLM provides the general public and other Federal agencies with an opportunity to comment on new, proposed, revised and continuing collections of information. This helps to assess the impact of the BLM's information collection requirements and minimize the public's reporting burden. It also helps the public understand the BLM's information collection requirements and provides the requested data in the desired format. A Federal Register notice with a 60-day public comment period soliciting comments on this collection of information was published on October 18, 2019 (84 FR55981). No comments were received.

The BLM is soliciting comments on the proposed ICR that is described below and is interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments submitted in response to this notice are a matter of public record. The BLM will include or summarize each comment in our request to OMB to approve this ICR. Before including your address, phone number, email address, or other personal identifying information in your comment, you should be aware that your entire comment—including your personal identifying information—may be made publicly available at any time. While you can ask the BLM in your comment to withhold your personal identifying information from public review, the BLM cannot guarantee that it will be able to do so.

The following information pertains to this request:

Abstract: The control number enables the BLM to determine whether operators and mining claimants are meeting their responsibility to prevent unnecessary or undue degradation while conducting exploration and mining activities on public lands under mining laws.

Title of Collection: Surface Management under the General Mining Law (43 CFR part 3809).

OMB Control Number: 1004-0194.

Forms:

• 3809-1, Surface Management Surety Bond;

• 3809-2, Surface Management Personal Bond;

• 3809-4, Bond Rider Extending Coverage of Bond to Assume Liabilities for Operations Conducted by Parties Other Than the Principal and;

• 3809-5, Notification of Change of Operator and Assumption of Past Liability.

Type of Review: Extension of a currently approved collection.

Respondents/Affected Public: Operators and mining claimants.

Total Estimated Number of Annual Respondents: 1,495.

Total Estimated Number of Annual Responses: 1,495.

Total Estimated Completion Time per Response: Varies from 1 to several hours per response.

Total Estimated Number of Annual Burden Hours: 183,808.

Respondent's Obligation: Required to obtain a benefit.

Frequency of Collection: On occasion.

Total Estimated Annual Nonhour Burden Cost: $4,780 for notarizing Forms 3809-2 and 3809-4a.

An agency may not conduct or sponsor—and a person is not required to respond to—a collection of information unless it displays a currently valid OMB control number.

The authority for this action is the Paperwork Reduction Act of 1995 (44 U.S.C. 3501 et seq.).

Chandra Little,
Bureau of Land Management, Regulatory Analyst.

[FR Doc. 2020-01439 Filed 1-27-20; 8:45 am]

BILLING CODE 4310-84-P